DEPARTMENT OF DEFENSE

Department of the Army, Corps of Engineers

Notice of Availability of the Final Environmental Impact Statement for the C-111 Spreader Canal Western Project Located in Miami-Dade Counties, FL

AGENCY: U.S. Army Corps of Engineers, DoD.

ACTION: Notice of availability.

SUMMARY: The U.S. Army Corps of Engineers (USACE) is issuing this notice to advise the public that a Final Environmental Impact Statement (EIS) has been completed and is available for review and comment.

DATES: In accordance with the National Environmental Policy Act (NEPA), we have filed the Final EIS with the U.S. Environmental Protection Agency (EPA) for publication of their notice of availability in the Federal Register. The EPA notice officially starts the 30-day review period for this document. It is the goal of the USACE to have this notice published on the same date as the EPA notice. However, if that does not occur, the date of the EPA notice will determine the closing date for comments on the Final EIS. Comments on the Final EIS must be submitted to the address below under Further Contact Information and must be received no later than 5 p.m. Eastern Standard Time, Monday, August 17, 2009.

ADDRESSES: The Final EIS can be viewed online at http://www.saj.usace.army.mil/Divisions/Regulatory/InterestItems.htm. Copies of the Final EIS are also available for review at the following libraries: Miami-Dade Public Library, Homestead Branch, 700 N. Homestead Blvd., Homestead, FL 33030. Miami-Dade Public Library, Main Branch, 101 West Flagler Street, Miami, FL 33130.

FOR FURTHER INFORMATION CONTACT: Ms. Alisa Zarbo, Project Manager, U.S. Army Corps of Engineers, Jacksonville District, 4400 PGA Boulevard, Suite 500, Palm Beach Gardens, Florida 33410, Telephone: 561-472-3516, Fax: 561-626-6971.

SUPPLEMENTARY INFORMATION: The South Florida Water Management District (SFWMD) proposes to construct the C-111 Spreader Canal Western Project in Miami-Dade County. The project addresses the need to restore ecosystem function in Taylor Slough and Florida Bay within the Everglades National Park, the adjacent Southern Glades, the Model Land, and other associated wetlands and estuarine systems. The SFWMD anticipates that this proposed project will become an authorized Comprehensive Everglades Restoration Plan (CERP) project, and that it will receive credit for the early construction of this proposed project as the local sponsor. This Final EIS builds upon the draft Project Implementation Report (PIR)/EIS that has already been released to the public under the CERP and the Regulatory program. As such, this EIS includes numerous discussions of compliance with CERP requirements. While not critical to the Department of the Army permit decision, this information provides more context than a typical EIS and also details about USACE planning policy.

The C-111 Spreader Canal Western Project is essential to achieving restoration of Taylor Slough and downstream areas within the affected areas in the Everglades National Park, the Model Land and the Southern Glades area, and plays an integral role in meeting the CERP system-wide ecosystem restoration goals and objectives. Structural and operational changes will be implemented to improve the quantity, timing, and distribution of water delivered to Florida Bay via Taylor Slough, as well as improve hydroperiods within the wetlands of the Southern Glades and Model Land. Hydroperiods and hydropatterns within the wetlands of the Southern Glades and Model Land will be improved by the construction of a new operable water control structure in the lower C-111 Canal, incremental operational changes at existing structure S-18C, changes in operations at the existing S-20 structure, construction of a plug at existing structure S-20A, and the installation of ten earthen plugs in the C-110 Canal. As a result of the construction and operation of the C-111 Spreader Canal Western project, approximately 200.73 acres (in total) of wetlands and waters of the United States would be permanently impacted and 39.98 acres (in total) of wetlands and waters of the United States would be temporarily impacted as a result of the placement of fill material, excavation, and/or flooding. In addition, approximately 149.26 acres of atypical wetlands (agricultural) would be impacted by excavation, then inundated with water. The SFWMD would need to obtain a U.S. Department of the Army permit from the USACE pursuant to Section 404 of the Clean Water Act. This final Environmental Impact Statement evaluates the environmental effects of seven alternatives, including the SFWMD's preferred alternative and the No Action Alternative.

Dated: July 10, 2009.
David Hobbie,
Chief, Regulatory Division.

[FR Doc. E9-17167 Filed 7-17-09; 8:45 am]

BILLING CODE 3710-AJ-P